DEPARTMENT OF JUSTICE

National Institute of Corrections

Extension/Clarification of Solicitation for a Cooperative Agreement—Documentation of the Impact of NIC Executive Leadership Training for Women

AGENCY: National Institute of Corrections, Justice.

ACTION: Extension/clarification solicitation for a cooperative agreement.

SUMMARY: The Department of Justice, National Institute of Corrections (NIC) announces an extension of the closing date and a clarification of eligibility to the notice of a solicitation for a cooperative agreement in Fiscal Year 2001 for “Documentation of the Impact of NIC Executive Leadership Training for Women” which was printed in the February 28, 2001 edition (Volume 66, Number 40 of the Federal Register, pages 12811-12813. The closing date is extended to April 4, 2001.

Clarification of Eligibility of Applicants: An eligible applicant is any state or general unit of local government, public or private agency, educational institution, organization, team, or individual with the requisite skills to successfully meet the outcome objectives of the project.

Deadline for Receipt of Applications: Applications must be received by 4:00 pm on Wednesday, April 4, 2001. They should be addressed to: Director, National Institute of Corrections, 320 First Street, NW., Room 5007, Washington, DC 20534. Hand delivered applications should be brought to 500 First Street, NW., Washington, DC 20534. The front desk will call Bobbi Tinsley at (202) 307-3106, extension 0 for pickup.

Addresses and Further Information: A copy of this announcement, application and forms may be obtained through the NIC web site: http://www.nicic.org (click on “Cooperative Agreements”). If a written copy is needed contact Judy Evens, Cooperative Agreement Control Office (1-800-995-6423 x 44222 or (202) 307-3106 ext. 44222, e-mail at jevens@bop.gov.) All technical and/or programmatic questions concerning this announcement should be directed to Andie Moss, Project Manager, at 320 First Street, NW., Room 5007, Washington, DC 20534 or by calling 800-995-6423, ext. 30485, 202-307-3106, ext. 30485, or e-mail: amoss@bop.gov.

Number of Awards: One (1).

NIC Application Number: 01P05. This number should appear as a reference line in your cover letter and also in box 11 of Standard Form 424.

Catalog of Federal Domestic Assistance Number: 16.603.

Dated: March 16, 2001.
Larry B. Solomon,
Deputy Director, National Institute of Corrections.

[FR Doc. 01-7035 Filed 3-20-01; 8:45 am]

BILLING CODE 4410-36-M